ENVIRONMENTAL PROTECTION AGENCY

[EPA-HQ-OLEM-2021-0762; FRL- 9153-01-OLEM]

Strategy To Reduce Lead Exposures and Disparities in U.S. Communities

AGENCY: Environmental Protection Agency (EPA).

ACTION: Notice of availability; request for comments.

SUMMARY: The Environmental Protection Agency (EPA) is seeking public comment on its draft Strategy to Reduce Lead Exposures and Disparities in U.S. Communities. The EPA has developed this lead strategy to further reduce lead exposures in communities, and particularly those with environmental justice concerns.

DATES: Comments must be submitted on or before January 26, 2022.

ADDRESSES: Submit your comments, referencing by Docket ID No. EPA-HQ-OLEM-2021-0762 to:

• Federal eRulemaking Portal: https://www.regulations.gov/ (our preferred method). Follow the online instructions for submitting comments.

• Mail: U.S. Environmental Protection Agency, EPA Docket Center, Office of Land and Emergency Management Docket, Mail Code 28221T, 1200 Pennsylvania Avenue NW, Washington, DC 20460.

• Hand Delivery or Courier (by scheduled appointment only): EPA Docket Center, WJC West Building, Room 3334, 1301 Constitution Avenue NW, Washington, DC 20004. The Docket Center's hours of operations are 8:30 a.m.-4:30 p.m., Monday-Friday (except Federal Holidays).

Instructions: All submissions received must include the Docket ID No. for this action. Comments received may be posted without change to https://www.regulations.gov/, including any personal information provided. For detailed instructions on sending comments and additional information, see the “Public Participation” heading of the SUPPLEMENTARY INFORMATION section of this document. Out of an abundance of caution for members of the public and our staff, the EPA Docket Center and Reading Room are open to the public by appointment only to reduce the risk of transmitting COVID-19. Our Docket Center staff also continues to provide remote customer service via email, phone, and webform. Hand deliveries and couriers may be received by scheduled appointment only. For further information on EPA Docket Center services and the current status, please visit us online at https://www.epa.gov/dockets.

FOR FURTHER INFORMATION CONTACT: Stiven Foster, Environmental Protection Agency, 1200 Pennsylvania Ave. NW, Mail Code: 5103T, Washington, DC 20460; telephone number: (202) 566-1911; email address: foster.stiven@epa.gov.

SUPPLEMENTARY INFORMATION:

I. Public Participation

A. Written Comments

Submit your comments, identified by Docket ID No. EPA-HQ-OLEM-2021-0762 at https://www.regulations.gov (our preferred method), or the other methods identified in the ADDRESSES section. Once submitted, comments cannot be edited or removed from the docket. The EPA may publish any comment received to its public docket. Do not submit to EPA's docket at https://www.regulations.gov any information you consider to be Proprietary Business Information (PBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about PBI or multimedia submissions, and general guidance on making effective comments, please visit https://www.epa.gov/dockets/commenting-epa-dockets.

Due to public health concerns related to COVID-19, the EPA Docket Center and Reading Room are open to the public by appointment only. Our Docket Center staff also continues to provide remote customer service via email, phone, and webform. Hand deliveries or couriers will be received by scheduled appointment only. For further information and updates on EPA Docket Center services, please visit us online at https://www.epa.gov/dockets.

The EPA continues to carefully and continuously monitor information from the Centers for Disease Control and Prevention (CDC), local area health departments, and our Federal partners so that we can respond rapidly as conditions change regarding COVID-19.

II. Background

The EPA has developed the Strategy to Reduce Lead Exposures and Disparities in U.S. Communities (Lead Strategy) to further reduce lead exposures in communities, and particularly those with environmental justice concerns. Adverse effects on intellect, ability to pay attention, and academic achievement have been linked to very low levels of lead in children's blood. The EPA will focus on eliminating the disparities in blood lead levels by taking targeted actions informed by scientific information to prevent exposures that could lead to lifelong impacts on social and economic achievement. The EPA is seeking public comment on this draft strategy. Following the public comment period, the EPA will revise and implement the Lead Strategy.

The EPA will work with other federal agencies and engage states, tribes, territories, and local partners throughout Lead Strategy implementation to target technical and financial resources to address priorities. The EPA will prioritize implementation of actions in the Lead Strategy based on their effectiveness in eliminating exposures to vulnerable communities and available resources. To do this, the EPA will apply best practices, via program evaluation and other evidence-building approaches to assess the impacts of key local-scale programs.

Dated: October 21, 2021.
Barry Breen,
Principal Deputy Assistant Administrator, Office of Land and Emergency Management.

[FR Doc. 2021-23421 Filed 10-27-21; 8:45 am]

BILLING CODE 6560-50-P